DEPARTMENT OF COMMERCE

International Trade Administration

[A-201-828]

Welded Large Diameter Line Pipe From Mexico: Postponement of Final Determination of Antidumping Duty Investigation

AGENCY: Import Administration, International Trade Administration, Department of Commerce.

ACTION: Notice of postponement of final determination of antidumping duty investigation.

EFFECTIVE DATE: September 28, 2001.

FOR FURTHER INFORMATION CONTACT: Rick Johnson at (202) 482-3818; Import Administration, International Trade Administration, U.S. Department of Commerce, 14th Street and Constitution Avenue, NW., Washington, DC 20230.

Statutory Time Limits

Section 735(a)(1) of the Tariff Act of 1930, as amended (the Act), requires the Department of Commerce (the Department) to issue the final determination of an antidumping duty investigation within 75 days of the date of the preliminary determination. However, if a request is made in writing by exporters who account for a significant proportion of exports of the merchandise which is the subject of the investigation, in a proceeding in which the preliminary determination by the administering authority under section 733(b) was affirmative, section 735(a)(2) of the Act allows the Department to postpone the final determination until not later than the 135th day after the date on which it published notice of its preliminary determination.

Background

On January 30, 2001, the Department initiated the above-referenced investigation. See Notice of Initiation of Antidumping Duty Investigations: Welded Large Diameter Line Pipe from Mexico and Japan, 66 FR 11266 (February 23, 2001). The preliminary determination was published in the Federal Register on August 15, 2001. See Notice of Preliminary Determination of Sales at Less Than Fair Value: Welded Large Diameter Line Pipe From Mexico (“Preliminary Determination”), 66 FR 42841 (August 15, 2001).

Extension of Final Determination

The respondent in this investigation has requested that the Department postpone by 60 days the final antidumping determination. Because this request was made consistent with section 735(a)(2)(A) of the Act, the Department is postponing the deadline for issuing this determination until December 28, 2001, which is 135 days after publication of the Preliminary Determination.

Dated: September 20, 2001.
Faryar Shirzad,
Assistant Secretary for Import Administration.

[FR Doc. 01-24415 Filed 9-27-01; 8:45 am]

BILLING CODE 3510-DS-P